DEPARTMENT OF ENERGY

Federal Energy Regulatory Commission

Combined Notice of Filings #1

Take notice that the Commission received the following electric rate filings:

Docket Numbers: ER23-66-002; ER20-2202-003; ER20-2032-003; ER10-2834-008; ER23-139-004; ER17-1438-004; ER17-2056-002; ER23-1500-001; ER10-1252-021; ER23-1501-001; ER23-1502-001; ER10-1246-021; ER10-2821-009; ER20-2671-007; ER23-138-003; ER12-1329-009.

Applicants: Wildcat Wind Farm I, LLC, Watlington Solar, LLC, Water Strider Solar, LLC, Stony Creek Wind Farm, LLC, Consolidated Edison Energy, Inc., RWE Supply & Trading US, LLC, RWE Supply & Trading Americas, LLC, Consolidated Edison Solutions, Inc., RWE Clean Energy QSE, LLC, EC&R O&M, LLC, Radford's Run Wind Farm, LLC, Pleasant Hill Solar, LLC, Munnsville Wind Farm, LLC, Hardin Wind LLC, Cassadaga Wind LLC, Baron Winds LLC.

Description: Response to 09/27/2024 Deficiency Letter of Baron Winds LLC et al.

Filed Date: 10/23/24.

Accession Number: 20241023-5206.

Comment Date: 5 p.m. ET 11/13/24.

Docket Numbers: ER24-2970-001.

Applicants: ISO New England Inc., Central Maine Power Company.

Description: Tariff Amendment: ISO New England Inc. submits tariff filing per 35.17(b): Amendment to Original Service Agreement No. LGIA-ISONE/CMP-24-01 to be effective 8/8/2024.

Filed Date: 10/28/24.

Accession Number: 20241028-5110.

Comment Date: 5 p.m. ET 11/18/24.

Docket Numbers: ER25-234-000.

Applicants: Citizens S-Line Transmission LLC.

Description: 205(d) Rate Filing: Annual Operating Cost True-Up Adjustment Informational Filing to be effective 12/31/9998.

Filed Date: 10/25/24.

Accession Number: 20241025-5178.

Comment Date: 5 p.m. ET 11/15/24.

Docket Numbers: ER25-235-000.

Applicants: DCR Transmission, L.L.C.

Description: 205(d) Rate Filing: DCR Transmission TRR and TRBAA Filing to be effective 1/1/2025.

Filed Date: 10/28/24.

Accession Number: 20241028-5095.

Comment Date: 5 p.m. ET 11/18/24.

Docket Numbers: ER25-236-000.

Applicants: Mid-Atlantic Interstate Transmission, LLC, PJM Interconnection, L.L.C.

Description: 205(d) Rate Filing: Mid-Atlantic Interstate Transmission, LLC submits tariff filing per 35.13(a)(2)(iii: MAIT—FE submits Revised Interconnection Agreement, SA No. 6412 to be effective 12/23/2024.

Filed Date: 10/28/24.

Accession Number: 20241028-5104.

Comment Date: 5 p.m. ET 11/18/24.

Docket Numbers: ER25-237-000.

Applicants: Stanton Clean Energy, LLC.

Description: 205(d) Rate Filing: Tariff No. 1, Cost-Based Rate Tariff to be effective 12/28/2024.

Filed Date: 10/28/24.

Accession Number: 20241028-5113.

Comment Date: 5 p.m. ET 11/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 28, 2024.
Debbie-Anne A. Reese,
Secretary.

[FR Doc. 2024-25510 Filed 11-1-24; 8:45 am]

BILLING CODE 6717-01-P